DEPARTMENT OF HOMELAND SECURITY

Federal Emergency Management Agency

44 CFR Part 67

[Docket No. FEMA-B 7711]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, Federal Emergency Management Agency, 500 C Street SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground: Effective | * Elevation in feet (NGVD) + Elevation in feet (NAVD) # Depth in feet above ground: Modified | Communities affected | Flooding source(s) | Location of referenced elevation: Effective | Location of referenced elevation: Modified | Communities affected
Gallatin County, Kentucky and Incorporated Areas
Ohio River | Carroll County Line | *472 | +471 | City of Warsaw.
| Boone County Line | *480 | +479 | Gallatin County (Unincorporated Areas).
*National Geodetic Vertical Datum.
# Depth in feet above ground.
+ North American Vertical Datum.
ADDRESSES
City of Warsaw
Maps are available for inspection at 101 West Market Street, Warsaw, KY 41095.
Send comments to The Honorable E. Richard Wood, Mayor, City of Warsaw, 101 West Market Street, Warsaw, KY 41095.
Gallatin County (Unincorporated Areas)
Maps are available for inspection at 200 Washington Street, Warsaw, KY 41095.
Send comments to The Honorable Kenny R. French, Gallatin County Judge Executive, P.O. Box 144, Warsaw, KY 41095.
Phelps County, Missouri (Unincorporated Areas)
Burger Branch | Approximately 900 ft downstream side of Brookridge Drive | None | *967 | Phelps County (Unincorporated Areas).
| About 2,200 ft upstream side of Old St. James Road | None | *1077
Little Piney Creek | About 1500 ft downstream of the confluence with Newburg Branch | None | *710 | Phelps County (Unincorporated Areas).
| About 3000 ft upstream of MO State Highway T/Water Street. | None | *717
* National Geodetic Vertical Datum.
# Depth in feet above ground.
+ North American Vertical Datum.
ADDRESSES
Phelps County (Unincorporated Areas)
Maps are available for inspection at 200 North Main Street, 200 North Main Street, MO 65401.
Send comments to The Honorable Randy Verkamp, Presiding Commissioner, 200 North Main Street, Rolla, MO 65401.
Cleveland County, North Carolina and Incorporated Areas
Adams Branch | At the confluence with Knob Creek (into First Broad River) | None | +890 | Cleveland County (Unincorporated Areas), Town of Belwood.
| Approximately 50 feet upstream of Woodrow Hoyle Road (State Road 1624) | None | +1,018
Tributary 1 | At the confluence with Adams Branch | None | +904 | Cleveland County (Unincorporated Areas).
| Approximately 1.2 miles upstream of the confluence of Adams Branch | None | +983 |
Ashworth Creek | At the confluence with Broad River | None | +669 | Cleveland County (Unincorporated Areas).
| At the North Carolina/South Carolina State boundary | None | +788 |
Tributary 5 | At the confluence with Ashworth Creek | None | +763 | Cleveland County (Unincorporated Areas).
| Approximately 600 feet upstream of Wood Road | None | +780 |
Bald Knob Creek | At the confluence with Little Knob Creek | None | +946 | Cleveland County (Unincorporated Areas).
| Approximately 100 feet upstream of Pruitt Road | None | +1,012 |
Beams Lake | Approximately 275 feet upstream of the confluence with Hickory Creek (near Shelby) | None | +735 | City of Shelby.
| Approximately 260 feet upstream of the Dam | None | +801 |
Beason Creek | At the confluence with Buffalo Creek | +622 | +621 | Cleveland County (Unincorporated Areas), City of Kings Mountain.
| Approximately 1,540 feet upstream of Marion Street | None | +913 |
Tributary 1 | At the confluence of Beason Creek | None | +633 | Cleveland County (Unincorporated Areas).
| Approximately 600 feet upstream of the confluence with Beason Creek | None | +639 |
Tributary 18 | At the confluence with Beason Creek | None | +851 | City of Kings Mountain.
| Approximately 955 feet upstream of the confluence with Beason Creek | None | +864 |
Beaverdam Creek (near Boiling Springs) | At the confluence with First Broad River | None | +642 | Cleveland County (Unincorporated Areas), Town of Boiling Springs.
| Approximately 170 feet upstream of Railroad | None | +863 |
Tributary 11 | At the confluence with Beaverdam Creek (near Boiling Springs) | None | +729 | Cleveland County (Unincorporated Areas), City of Shelby.
| Approximately 1,640 feet upstream of West Dixon Boulevard/U.S. Route 74 | None | +782 |
Tributary 6 | At the confluence with Beaverdam Creek (near Boiling Springs) | None | +700 | Cleveland County (Unincorporated Areas), Town of Boiling Springs.
| Approximately 40 feet upstream of East Homestead Avenue | None | +782 |
Big Harris Creek | At the confluence with First Broad River | None | +754 | Cleveland County (Unincorporated Areas).
| Approximately 410 feet upstream of Harris Road | None | +857 |
Bowens River | At the North Carolina/South Carolina State boundary | None | +656 | Cleveland County (Unincorporated Areas).
| Approximately 1.0 mile upstream of Nickey Sharts Road | None | +726 |
Broad River | At the North Carolina/South Carolina State boundary | None | +628 | Cleveland County (Unincorporated Areas).
| At the confluence of Second Broad River | None | +680 |
Brushy Creek | At the confluence with First Broad River | None | +699 | Cleveland County (Unincorporated Areas), City of Shelby, Town of Kingstown.
| Approximately 0.5 mile upstream of the confluence of West Fork Brushy Creek | None | +871 |
Tributary 1 of Tributary 6 | At the confluence with Brushy Creek Tributary 6 | None | +752 | Cleveland County (Unincorporated Areas).
| Approximately 820 feet upstream of Barbee Road | None | +780 |
Tributary 17 | At the confluence with Brushy Creek | None | +822 | Cleveland County (Unincorporated Areas).
| Approximately 0.6 mile upstream of the confluence with Brushy Creek | None | +841 |
Tributary 6 | At the confluence with Brushy Creek | None | +744 | Cleveland County (Unincorporated Areas), City of Shelby.
| Approximately 540 feet upstream of West Zion Church Road | None | +841 |
Buck Branch (into West Fork Sandy Run) | At the confluence with West Fork Sandy Run | None | +801 | Cleveland County (Unincorporated Areas).
| Approximately 1,000 feet upstream of the confluence with West Fork Sandy Run | None | +803 |
Buffalo Creek | Approximately 0.5 mile downstream of the North Carolina/South Carolina State boundary | None | +595 | Cleveland County (Unincorporated Areas), City of Kings Mountain, City of Shelby, Town of Belwood.
| Approximately 0.9 mile upstream of the confluence of Buffalo Creek Tributary 5 | None | +1,015 |
Tributary 2 | At the confluence with Buffalo Creek | +608 | +607 | Cleveland County (Unincorporated Areas).
| Approximately 0.6 mile upstream of the confluence with Buffalo Creek | None | +631 |
Tributary 3 | At the confluence with Buffalo Creek | +610 | +611 | Cleveland County (Unincorporated Areas).
| Approximately 1.2 miles upstream of Roseborough Road | None | +678 |
Tributary 4 | At the confluence with Buffalo Creek | +658 | +662 | Cleveland County (Unincorporated Areas).
| Approximately 80 feet upstream of Borders Road | None | +732 |
Camp Creek | At the confluence with Broad River | None | +651 | Cleveland County (Unincorporated Areas).
| Approximately 0.4 mile upstream of Abes Mountain Road | None | +707 |
Church Branch | At the confluence with Sandy Run | None | +706 | Cleveland County (Unincorporated Areas), Town of Boiling Springs.
| Approximately 0.7 mile upstream of Sandy Run | None | +717 |
Cove Creek (into Wards Creek) | At the confluence with Ward Creek | None | +990 | Cleveland County (Unincorporated Areas).
| Approximately 420 feet upstream of Brackett Hill Road | None | +1,063 |
Cox Creek | At the confluence with Ward Creek | None | +947 | Cleveland County (Unincorporated Areas).
| Approximately 0.9 mile upstream of the confluence with Ward Creek | None | +993 |
Crooked Run Creek | At the confluence with First Broad River | None | +816 | Cleveland County (Unincorporated Areas), Town of Casar.
| Approximately 1.4 miles upstream of Grady McNeilly Road | None | +1,077 |
Dark Hollow Branch | At the confluence with Hinton Creek | None | +888 | Cleveland County (Unincorporated Areas).
| Approximately 0.4 mile upstream of the confluence with Hinton Creek | None | +894 |
Dixon Branch | At the North Carolina/South Carolina State boundary | None | +687 | Cleveland County (Unincorporated Areas).
| Approximately 1,110 feet upstream of Dixon School Road | None | +720 |
Duncans Creek | At the confluence with First Broad River | None | +882 | Cleveland County (Unincorporated Areas).
| Approximately 0.5 mile upstream of Brooks Chapel Road | None | +914 |
First Broad River | At the confluence with Broad River | None | +633 | Cleveland County (Unincorporated Areas), City of Shelby, Town of Lawndale.
| Approximately 1.6 miles upstream of Moriah Church Road | None | +933 |
Tributary 19 | At the confluence with First Broad River | None | +691 | Cleveland County (Unincorporated Areas), City of Shelby.
| Approximately 90 feet downstream of West Dixon Boulevard/Bypass 74 | None | +799 |
Tributary 20 | At the confluence with First Broad River | None | +693 | Cleveland County (Unincorporated Areas), City of Shelby.
| Approximately 0.5 mile upstream of the confluence with First Broad River | None | +697 |
Tributary 23 | At the confluence with First Broad River | None | +705 | City of Shelby.
| Approximately 240 feet upstream of Kingsbury Street | None | +767 |
Tributary 30 | At the confluence with First Broad River | None | +733 | Cleveland County (Unincorporated Areas).
| Approximately 1,480 feet upstream of North Lafayette Street | None | +733 |
Tributary 5 | At the confluence with First Broad River | None | +646 | Cleveland County (Unincorporated Areas).
| Approximately 60 feet upstream of Red Road | None | +661 |
Tributary of Tributary 19 | At the confluence with First Broad River Tributary 19 | None | +777 | City of Shelby.
| Approximately 150 feet upstream of Gardner Street | None | +837 |
Flint Hill Creek | At the confluence with Hinton Creek | None | +874 | Cleveland County (Unincorporated Areas).
| Approximately 40 feet upstream of Hollis Road | None | +910 |
Gilliam Creek | At the confluence with Muddy Fork | None | +783 | Cleveland County (Unincorporated Areas).
| Approximately 150 feet downstream of Gilliam Creek Tributary 2 | None | +809 |
Tributary 1 | At the confluence with Gilliam Creek | None | +786 | Cleveland County (Unincorporated Areas).
| Approximately 1,700 feet upstream of Old Post Road | None | +814 |
Tributary 2 | Approximately 600 feet upstream of the confluence with Gilliam Creek | None | +811 | Cleveland County (Unincorporated Areas).
| Approximately 780 feet upstream of Marys Grove Road | None | +818 |
Glenn Creek | At the confluence with Buffalo Creek | None | +889 | Cleveland County (Unincorporated Areas), Town of Bellwood.
| At the Lincoln/Cleveland County boundary | None | +898 |
Grassy Branch | At the confluence with First Broad River | None | +819 | Cleveland County (Unincorporated Areas), Town of Polkville.
| Approximately 270 feet downstream of Enid Street | None | +1,045 |
Grog Creek | At the confluence with Sandy Run | None | +679 | Cleveland County (Unincorporated Areas).
| Approximately 1.0 mile upstream of Grog Creek Tributary 9 | None | +833 |
Tributary 9 | At the confluence with Grog Creek | None | +808 | Cleveland County (Unincorporated Areas).
| Approximately 0.4 mile upstream of Gantts Grove Church Road | None | +840 |
Grover Tributary | Approximately 0.3 mile upstream of the confluence with Buffalo Creek | None | +620 | Cleveland County (Unincorporated Areas), Town of Grover.
| Approximately 2.1 miles upstream of Bethlehem Church Road | None | +930 |
Hawkins Branch | At the confluence with Beaverdam Creek (near Boiling Springs) | None | +642 | Cleveland County (Unincorporated Areas).
| Approximately 700 feet upstream of Beaverdam Creek (near Boiling Springs) | None | +642 |
Hickory Creek (near Shelby) | At the confluence with First Broad River | None | +676 | Cleveland County (Unincorporated Areas), City of Shelby.
| Approximately 0.4 mile upstream of Airport Road | None | +842 |
Tributary 12 | At the confluence with Hickory Creek (near Shelby) | +796 | +795 | City of Shelby.
| Approximately 560 feet upstream of Wendover Heights Drive | None | +869 |
Tributary 8 | At the confluence with Hickory Creek (near Shelby) | +743 | +741 | City of Shelby.
| Approximately 1,100 feet upstream of Weathers Street | None | +848 |
Tributary 9 | At the confluence with Hickory Creek (near Shelby) | +748 | +747 | City of Shelby.
| Approximately 0.4 mile upstream of Country Club Circle | None | +784 |
Tributary of Tributary 9 | At the confluence with Hickory Creek (near Shelby) Tributary of Tributary 9 | None | +764 | City of Shelby.
| Approximately 650 feet upstream of confluence with Hickory Creek (near Shelby) Tributary of Tributary 9 | None | +768 |
Hinton Creek | At the confluence with First Broad River | None | +860 | Cleveland County (Unincorporated Areas).
| Approximately 0.9 mile upstream of Stroud Road | None | +979 |
Tributary 8 | At the confluence with Hinton Creek | None | +909 | Cleveland County (Unincorporated Areas).
| Approximately 150 feet upstream of Tan Yard Road | None | +943
Jolly Branch | At the confluence with Broad River | None | +646 | Cleveland County (Unincorporated Areas).
| Approximately 0.6 mile upstream of the confluence with Broad River | None | +669
Kings Creek | Approximately 860 feet downstream of the North Carolina/South Carolina State boundary | None | +689 | Cleveland County (Unincorporated Areas), City of Kings Mountain.
| Approximately 600 feet upstream of Interstate 85 | None | +788
Tributary 6 | At the confluence with Kings Creek | None | +748 | Cleveland County (Unincorporated Areas), City of Kings Mountain.
| Approximately 890 feet upstream of Interstate 85 | None | +841
Kings Mountain Reservoir | Entire shoreline | +738 | +740 | Cleveland County (Unincorporated Areas), City of Kings Mountain.
Knob Creek (into First Broad River) | At the confluence with First Broad River | None | +806 | Cleveland County (Unincorporated Areas), Town of Belwood.
| Approximately 590 feet upstream of the confluence of Knob Creek (into First Broad River) Tributary 5 | None | +1,002
Tributary 3 | At the confluence with Knob Creek (into First Broad River) | None | +945 | Cleveland County (Unincorporated Areas).
| Approximately 760 feet upstream of the confluence with Knob Creek (into First Broad River) | None | +951
Tributary 5 | At the confluence with Knob Creek (into First Broad River) | None | +990 | Cleveland County (Unincorporated Areas).
| Approximately 930 feet upstream of the confluence with Knob Creek (into First Broad River) | None | +1,005
Lick Branch | At the confluence with Buffalo Creek | +606 | +603 | Cleveland County (Unincorporated Areas).
| Approximately 50 feet downstream of Watterson Road | None | +733
Little Buffalo Creek | At the confluence with Buffalo Creek | None | +835 | Cleveland County (Unincorporated Areas).
| Approximately 60 feet upstream of East Stage Coach Trail | None | +854
Little Creek | At the confluence with Glenn Creek | None | +891 | Town of Belwood.
| At the Lincoln/Cleveland County boundary | None | +961
Little Harris Creek | At the confluence with Big Harris Creek | None | +760 | Cleveland County (Unincorporated Areas).
| Approximately 440 feet upstream of West Double Shoals Road | None | +801
Little Hickory Creek | At the confluence with Hickory Creek (near Shelby) | None | +711 | Cleveland County (Unincorporated Areas), City of Shelby.
| Approximately 0.4 mile upstream of Duck Pond Road | None | +821
Little Knob Creek | At the confluence with Knob Creek (into First Broad River) | None | +853 | Cleveland County (Unincorporated Areas).
| At the confluence of Bald Knob Creek | None | +946
Little Persimmon Creek | At the confluence with Persimmon Creek | None | +715 | Cleveland County (Unincorporated Areas), City of Kings Mountain.
| Approximately 0.4 mile upstream of Brook Road | None | +872
Logan Branch | At the confluence with Sulpher Springs Branch | None | +719 | Cleveland County (Unincorporated Areas).
| Approximately 0.4 mile upstream of Ellis Road | None | +743
Long Branch (into Beason Creek) | At the confluence with Beason Creek | None | +656 | Cleveland County (Unincorporated Areas), City of Kings Mountain.
| Approximately 2.4 miles upstream of Bethlehem Church Road | None | +826
Long Branch (into Buffalo Creek) | At the confluence with Buffalo Creek | None | +807 | Cleveland County (Unincorporated Areas).
| Approximately 275 feet downstream of Jim Elliott Road | None | +834
Long Creek | At the confluence with Buffalo Creek | None | +759 | Cleveland County (Unincorporated Areas).
| Approximately 1.5 miles upstream of Arlee Drive | None | +937
Mangess Creek | At the confluence with First Broad River | None | +766 | Cleveland County (Unincorporated Areas).
| Approximately 240 feet upstream of Philadelphia Road | None | +832
Tributary 3 | At the confluence with Mangess Creek | None | +803 | Cleveland County (Unincorporated Areas).
| Approximately 120 feet upstream of Selkirk Drive | None | +857
Mayne Creek | At the confluence with Sandy Run | None | +778 | Cleveland County (Unincorporated Areas).
| Approximately 900 feet upstream of Padgett Road | None | +821
Tributary 3 | At the confluence with Mayne Creek | None | +789 | Cleveland County (Unincorporated Areas).
| Approximately 0.3 mile upstream of West Zion Church Road | None | +855
Tributary of Tributary 3 | At the confluence with Mayne Creek Tributary 3 | None | +797 | Cleveland County (Unincorporated Areas).
| Approximately 350 feet downstream of West Zion Church Road | None | +855
Muddy Fork | At the confluence with Buffalo Creek | +656 | +658 | Cleveland County (Unincorporated Areas).
| At the Gaston/Cleveland County boundary | None | +828
Tributary | At the confluence with Muddy Fork | +749 | +746 | Cleveland County (Unincorporated Areas).
| Approximately 100 feet upstream of Beattie Road | None | +877
Tributary 5 | At the confluence with Muddy Fork | None | +816 | Cleveland County (Unincorporated Areas).
| Approximately 100 feet downstream of Docwehunt Road | None | +818
No Business Creek | At the confluence with First Broad River | None | +910 | Cleveland County (Unincorporated Areas).
| Approximately 30 feet upstream of Moriah School Road | None | +1,032
Persimmon Creek | At the confluence with Muddy Fork | +711 | +708 | Cleveland County (Unincorporated Areas).
| Approximately 60 feet upstream of Rollingbrook Road | None | +824 |
Poplar Branch | At the confluence with Beaverdam Creek (near Boiling Springs) | None | +673 | Cleveland County (Unincorporated Areas), Town of Boiling Springs.
| Approximately 260 feet upstream of Patrick Avenue | None | +745 |
Potts Creek | At the confluence with Muddy Fork | +657 | +659 | Cleveland County (Unincorporated Areas), City of Kings Mountain.
| Approximately 1,100 feet upstream of Waco Road | None | +886 |
Tributary 11 | At the confluence with Potts Creek | None | +859 | City of Kings Mountain.
| Approximately 0.4 mile upstream of the confluence with Potts Creek | None | +881 |
Tributary 6 | At the confluence with Potts Creek | None | +737 | Cleveland County (Unincorporated Areas), City of Kings Mountain.
| Approximately 500 feet upstream of the confluence with Potts Creek | None | +739 |
Poundingmill Creek | At the confluence with Knob Creek (into First Broad River) | None | +910 | Cleveland County (Unincorporated Areas).
| Approximately 150 feet upstream of Boyles Road | None | +1,027 |
Sandy Run | At the confluence with Broad River | None | +659 | Cleveland County (Unincorporated Areas), Town of Boiling Springs, Town of Mooresboro.
| Approximately 0.5 mile upstream of Mooresboro Road | None | +835 |
Tributary 12 | At the confluence with Sandy Run | None | +726 | Cleveland County (Unincorporated Areas), Town of Boiling Springs.
| Approximately 0.6 mile upstream of Sandy Run Church Road | None | +792 |
Tributary 2 | At the confluence with Sandy Run | None | +668 | Cleveland County (Unincorporated Areas).
| Approximately 0.6 mile upstream of Sandy Run | None | +690 |
Tributary 21 | At the confluence with Sandy Run | None | +748 | Cleveland County (Unincorporated Areas).
| Approximately 1,750 feet upstream of West Dixon Boulevard/U.S. Route 74 | None | +803
Second Broad River | At the confluence with Broad River | None | +680 | Cleveland County (Unincorporated Areas).
| Approximately 0.5 mile upstream of the confluence with Broad River | None | +681 |
Shoal Creek (into First Broad River) | At the confluence with First Broad River | None | +649 | Cleveland County (Unincorporated Areas).
| Approximately 0.4 mile upstream of Bear Creek Road | None | +741 |
Sipe Creek | At the confluence with Kings Creek | None | +758 | Cleveland County (Unincorporated Areas), City of Kings Mountain.
| Approximately 270 feet upstream of Horseshoe Lane | None | +782 |
Stoney Run Creek | At the confluence with First Broad River | None | +834 | Cleveland County (Unincorporated Areas).
| Approximately 1.0 mile upstream of the confluence with First Broad River | None | +863 |
Suck Creek (into Broad River) | At the confluence with Broad River | None | +676 | Cleveland County (Unincorporated Areas).
| Approximately 0.5 mile upstream of Duke Power Road | None | +770 |
Suck Creek (into Buffalo Creek) | At the confluence with Buffalo Creek | None | +768 | Cleveland County (Unincorporated Areas).
| Approximately 1.3 miles upstream of Sperling Road | None | +873 |
Sulpher Springs Branch | At the confluence with Hickory Creek (near Shelby) | None | +676 | Cleveland County (Unincorporated Areas), City of Shelby.
| Approximately 1,200 feet upstream of the confluence of Logan Branch | None | +725 |
Swainsville Creek | At the confluence with Beaverdam Creek (near Boiling Springs) | None | +704 | Cleveland County (Unincorporated Areas), Town of Boiling Springs.
| Approximately 1.0 mile upstream of Beaver Dam Church Road | None | +769 |
Tim Creek | At the confluence with Ward Creek | None | +1,075 | Cleveland County (Unincorporated Areas).
| Approximately 1,350 feet upstream of Wards Gap Road | None | +1,088 |
UT between Shelby Raw Water Intakes | At the confluence with First Broad River | None | +714 | Cleveland County (Unincorporated Areas), City of Shelby.
| Approximately 0.5 mile upstream of Frederick Street | None | +881 |
Ward Creek | At the confluence with First Broad River | None | +883 | Cleveland County (Unincorporated Areas), Town of Casar.
| Approximately 0.4 mile upstream of South Valley Road | None | +1,101 |
West Fork Brushy Creek | At the confluence with Brushy Creek | None | +861 | Cleveland County (Unincorporated Areas).
| Approximately 1,350 feet upstream of Crowder Ridge Road | None | +879 |
West Fork Sandy Run | At the confluence with Sandy Run | None | +778 | Cleveland County (Unincorporated Areas).
| Approximately 200 feet upstream of the confluence of Buck Branch (into West Fork Sandy Run) | None | +801 |
Whiteoak Creek | At the confluence with Buffalo Creek | +738 | +740 | Cleveland County (Unincorporated Areas), City of Kings Mountain, Town of Waco.
| Approximately 0.5 mile upstream of State Route 150 | None | +924 |
Williams Creek | At the confluence with First Broad River | None | +721 | Cleveland County (Unincorporated Areas), City of Shelby.
| Approximately 330 feet upstream of North Lafayette Street | None | +744 |
Yancey Creek | At the confluence with First Broad River | None | +633 | Cleveland County (Unincorporated Areas), Town of Boiling Springs.
| Approximately 0.8 mile upstream of Keen Drive | None | +861 |
* National Geodetic Vertical Datum.
*#Depth in feet above ground.
* +North American Vertical Datum.
ADDRESSES
Town of Belwood
Maps are available for inspection at the Belwood Town Hall, 916 Belwood-Lawndale Road, Lawndale, North Carolina.
Send comments to The Honorable Ben Privett, Mayor of the Town of Belwood, 1206 Belwood-Lawndale Road, Lawndale, North Carolina 28090.
Town of Boiling Springs
Maps are available for inspection at the Boiling Springs Town Hall, 145 South Main Street, Boiling Springs, North Carolina.
Send comments to The Honorable Max Hamrick, Mayor of the Town of Boiling Springs, P.O. Box 1014, Boiling Springs, North Carolina 28017.
Town of Casar
Maps are available for inspection at the Casar Town Hall, 137 Deviney Street, Casar, North Carolina.
Send comments to The Honorable Eddie Walker, Mayor of the Town of Casar, P.O. Box 1014, Shelby, North Carolina 28151.
Town of Grover
Maps are available for inspection at the Grover Town Hall, 207 Mulberry Road, Grover, North Carolina.
Send comments to The Honorable Robert Sides, Mayor of the Town of Grover, P.O. Box 189, Grover, North Carolina 28073.
City of Kings Mountain
Maps are available for inspection at the Kings Mountain City Hall, 101 West Gold Street, Kings Mountain, North Carolina.
Send comments to The Honorable Rick Murphrey, Mayor of the City of Kings Mountain, P.O. Box 429, Kings Mountain, North Carolina 28086.
Town of Kingstown
Maps are available for inspection at the Kingstown Town Hall, 2014 Kingston Road, Kingstown, North Carolina.
Send comments to The Honorable Clarence S. Withrow, Mayor of the Town of Kingstown, 2014 Kingston Road, Kingstown, North Carolina 28150.
Town of Lawndale
Maps are available for inspection at the Lawndale Town Hall, 207 West Main Street, Lawndale, North Carolina.
Send comments to The Honorable Mike O'Brien, Mayor of the Town of Lawndale, P.O. Box 256, Lawndale, North Carolina 28090.
Town of Mooresboro
Maps are available for inspection at the Mooresboro Town Hall, 211 West Church Street, Mooresboro, North Carolina.
Send comments to The Honorable Bobby Watson, Mayor of the Town of Mooresboro, 211 West Church Street, Mooresboro, North Carolina 28114.
Town of Polkville
Maps are available for inspection at the Polkville Town Hall, 1234 Shytle Drive, Polkville, North Carolina.
Send comments to The Honorable Jack Shytle, Mayor of the Town of Polkville, P.O. Box 146, Polkville, North Carolina 28136.
City of Shelby
Maps are available for inspection at the City of Shelby Planning Department, 315 South Lafayette Street, Shelby, North Carolina.
Send comments to The Honorable W. Ted Alexander, Mayor of the City of Shelby, P.O. Box 207, Shelby, North Carolina 28151.
Town of Waco
Maps are available for inspection at the Waco Town Hall, 200 North Main Street, Waco, North Carolina.
Send comments to The Honorable Horace Lutz, Mayor of the Town of Waco, P.O. Box 249, Waco, North Carolina 28169.
Cleveland County (Unincorporated Areas)
Maps are available for inspection at the Cleveland County Planning Department, 311 East Marion Street, Shelby, North Carolina.
Send comments to Mr. David Dear, Cleveland County Manager, P.O. Box 1210, Shelby, North Carolina 28151.
Lorain County, Ohio and Incorporated Areas
Battenhouse Ditch | Approximately 115 feet downstream of Middle Ridge Road | None | +714 | Lorain County (Unincorporated Areas)
| Albrecht Road | None | +783
Beaver Creek | Approximately 40 feet downstream of State Route 113 | None | +752 | Village of South Amherst.
| Approximately 1,000 feet upstream of Garfield Road | None | +799 | Lorain County (Unincorporated Areas).
Brighton-Camden Main Ditch | Approximately 600 feet upstream of confluence with East Fork Vermilion River | None | +871 | Lorain County (Unincorporated Areas)
| State Route 18 | None | +922
Carpenter Ditch | Approximately 390 feet downstream of Avon Belden Road | None | +786 | Lorain County (Unincorporated Areas).
East Branch Beaver Creek | Northern City of Amherst corporate limits with the City of Lorain | None | +591 | City of Amherst.
| Eastern City of Amherst Corporate Limits with the City of Lorain | None | +593
Engle Ditch | Confluence with Battenhouse Ditch | None | +729 | Lorain County (Unincorporated Areas).
| Stang Road | None | +742
Fortune Ditch | Approximately 200 feet upstream of confluence with Willow Creek | None | +757 | City of North Ridgeville.
| Approximately 2,600 feet upstream of Avon Belden Road | None | +774 | Lorain County (Unincorporated Areas).
Gable Ditch | Approximately 400 feet upstream of the mouth at Lake Erie | +583 | +585 | City of Avon Lake.
| Approximately 40 feet downstream of Walker Road | +623 | +625
Heider Ditch | Approximately 80 feet upstream of Lake Road | +583 | +582 | City of Avon Lake.
| Approximately 50 feet downstream of Walker Road | +626 | +622
| Norfolk and Southern Railroad | None | +631
Tributary No. 1 | Confluence with Heider Ditch | None | +620 | City of Avon Lake.
| Norfolk and Southern Railroad | None | +628
Lake Erie | Entire Lake Erie coastline from the western City of Avon Lake corporate limits to the confluence of Heider Ditch (USACE Reach S) | +589 | +576 | City of Avon Lake.
| Entire Lake Erie coastline from the confluence of Heider Ditch to the eastern corporate limits (USACE Reach R) | +589 | +576
| Entire Lake Erie coastline from the western City of Sheffield Lake corporate limits to the eastern City of Sheffield Lake corporate limits (USACE Reach S) | +590 | +576
| Entire Lake Erie coastline from the confluence of Black River to the eastern City of Lorain corporate limits (USACE Reach S) | +577 | +576
| Entire Lake Erie coastline from the western City of Vermilion corporate limits to eastern corporate limits (USACE Reach T) | +576 | +577
Martins Run | Mouth at Lake Erie | +578 | +576 | City of Lorain.
| City of Lorain corporate limits | +722 | +721
Phelom Ditch | Approximately 160 feet upstream of confluece with Carpenter Ditch | None | +777 | City of North Ridgeville.
| Approximately 1,200 feet upstream of the City of North Ridgeville corporate limits | None | +787 | Lorain County (Unincorporated Areas).
Plum Creek | Approximately 80 feet downstream of Pyle-South Amherst Road | None | +810 | City of Oberlin Lorain County (Unincorporated Areas).
| US Route 20 | None | 830
Plum Creek—East | Sprague Road | None | +782 | Lorain County (Unincorporated Areas).
| Crocker Road | None | +826
Powdermaker Ditch | Approximately 1,220 feet upstream of the culvert entrance at Lake Road | +599 | +598 | City of Avon Lake.
| Approximately 2,320 feet upstream of the culvert entrance at Lake Road | +604 | +602
Ridgeway Ditch | Approximately 50 feet downstream of Case Road | None | +696 | City of North Ridgeville.
| Approximately 50 feet downstream of Bender Road | None | +739
Schroeder Ditch | Approximately 100 feet downstream of State Route 20 | None | +738 | Lorain County (Unincorporated Areas).
| Approximately 4,100 feet upstream of Russia Road | None | +779
* National Geodetic Vertical Datum.
# Depth in feet above ground.
+ North American Vertical Datum.
ADDRESSES
City of Amherst
Maps are available for inspection at 480 Park Avenue, Amherst, OH 44001.
Send comments to Ron Konowal, Building Inspector, City of Amherst, 480 Park Avenue, Amherst, OH 44001.
City of Avon
Maps are available for inspection at 36080 Chester Road, Avon, OH 44011.
Send comments to Jim Piazza, City Engineer, City of Avon, 36080 Chester Road, Avon, OH 44011.
City of Avon Lake
Maps are available for inspection at City Hall, 150 Avon Belden Road, Avon Lake, OH 44012.
Send comments to Joseph Reitz, Assistant to City Engineer, City of Avon Lake, City Hall, 150 Avon Belden Road, Avon Lake, OH 44012.
City of Elyria
Maps are available for inspection at 131 Court Street, Elyria, OH 44035.
Send comments to Jon Hart, City Engineer, City of Elyria, 131 Court Street, Elyria, OH 44035.
Village of Grafton
Maps are available for inspection at 960 Main Street, Grafton, OH 44044.
Send comments to Richard Kowalski, Building Inspector, Village of Grafton, 960 Main Street, Grafton, OH 44044.
Village of Kipton
Maps are available for inspection at 299 State Street, Kipton, OH 44049.
Send comments to The Honorable Dennis L. Watson, Mayor, Village of Kipton, 299 State Street, PO Box 177, Kipton, OH 44049.
Town of La Grange
Maps are available for inspection at 355 South Center Street, LaGrange, OH 44050.
Send comments to Walt Sukey, Village Administrator, Village of LaGrange, 355 South Center Street, PO Box 597, LaGrange, OH 44050.
City of Lorain
Maps are available for inspection at Engineering Department, 4th Floor, 200 West Erie Avenue, Lorain, OH 44052.
Send comments to Dale Vandersommen, Civil Engineer III, City of Lorain, Engineering Department, 4th Floor, 200 West Erie Avenue, Lorain, OH 44052.
City of North Ridgeville
Maps are available for inspection at 7307 Avon Belden Road, North Ridgeville, OH 44039.
Send comments to Guy Fursden, Floodplain Administrator, City of North Ridgeville, 7307 Avon Belden Road, North Ridgeville, OH 44039.
City of Oberlin
Maps are available for inspection at 85 South Main Street, Oberlin, OH 44074.
Send comments to Marshall Whitehead, Code Administrator, 85 South Main Street, Oberlin, OH 44074.
Village of Rochester
Maps are available for inspection at 100 South Street, Rochester, OH 44090.
Send comments to The Honorable William Spicer, Mayor, Village of Rochester, 100 South Street, Rochester, OH 44090.
Village of Sheffield
Maps are available for inspection at 4480 Colorado Avenue, Sheffield Village, OH 44054.
Send comments to Ken Kaczay, Village Administrator, Village of Sheffield, 4480 Colorado Avenue, Sheffield Village, OH 44054.
City of Sheffield Lake
Maps are available for inspection at 4750 Richelieu Avenue, Sheffield Lake, OH 44054.
Send comments to Bill Gardner, Service Director, City of Sheffield Lake, 4750 Richelieu Avenue, Sheffield Lake, OH 44054.
Village of South Amherst
Maps are available for inspection at 103 West Main Street, South Amherst, OH 44001.
Send comments to Ken Kaczay, Village Administrator, Village of Sheffield, 4480 Colorado Avenue, Sheffield Village, OH 44054.
City of Vermilion
Maps are available for inspection at 5511 Liberty Avenue, Vermilion, OH 44089.
Send comments to Chris Howard, City of Vermilion, c/o Bramhill Engineering, 801 Moore Road, Avon, OH 44011.
Village of Wellington
Maps are available for inspection at 115 Willard Memorial Square, Wellington, OH 44090.
Send comments to Morris Furcron, Zoning Inspector, Village of Wellington, 115 Willard Memorial Square, Wellington, OH 44090.
Lorain County (Unincorporated Areas)
Maps are available for inspection at 226 Middle Avenue, Community Development Department, Elyria, OH 44035.
Send comments to Christin Brandon, NFIP Administrator, Lorain County, 226 Middle Avenue, Community Development Department, Elyria, OH 44035.
Village of Cambridge, New York
Cambridge Creek | Confluence with Owl Kill | None | +477 | Village of Cambridge.
| Approximately 3,000 feet upstream of State Route 372 | None | +508
Owl Kill | Approximately 850 feet upstream of County Route 71 | None | +466 | Village of Cambridge.
| Approximately 1,000 feet upstream of N. Park Street | None | +493
White Creek | Corporate limits of Village of Cambridge | None | +493 | Village of Cambridge.
| Approximately 150 feet downstream of corporate limits of Village of Cambridge | None | +523 | Village of Cambridge.
* National Geodetic Vertical Datum.
# Depth in feet above ground.
+ North American Vertical Datum.
ADDRESSES
Village of Cambridge
Maps are available for inspection at 23 West Main Street, Cambridge, NY 12819.
Send comments to The Honorable Daniel Walsh, Mayor, Village of Cambridge, PO Box 271, Cambridge, NY 12816.

(Catalog of Federal Domestic Assistance No. 83.100, “Flood Insurance.”)

Dated: March 16, 2007.
David I. Maurstad,
Director, Mitigation Division, Federal Emergency Management Agency, Department of Homeland Security.

[FR Doc. E7-5611 Filed 3-27-07; 8:45 am]

BILLING CODE 9110-12-P